DEPARTMENT OF JUSTICE

Notice of Lodging Proposed Consent Decree

In accordance with Departmental Policy, 28 CFR 50.7, notice is hereby given that a proposed Consent Decree in United States v. Village of Orland Park, (ND IL) Case No. 04 C 220, was lodged with the United States District Court for the Northern District of Illinois on January 21, 2004. This proposed Consent Decree concerns a complaint filed by the United States against the Village of Orland Park, pursuant to section 301(a) of the Clean Water Act (“CWA”), 33 U.S.C. 1311(a), to obtain injunctive relief from and impose civil penalties against the Defendants for violating the Clean Water Act by discharging pollutants without a permit into waters of the United States. The proposed Consent Decree resolves these allegations by requiring the Defendant to restore the impacted areas and to pay a civil penalty.

The Department of Justice will accept written comments relating to this proposed Consent Decree for thirty (30) days from the date of publication of this notice. Please address comments to Kurt N. Lindland, Assistant United States Attorney, U.S. Attorney's Office, Northern District of Illinois, 219 S. Dearborn Street, Chicago, Illinois 60604 and refer to United States v. Village of Orland Park, USA No. 2003V2834. The proposed Consent Decree may be examined at the Clerk's Office, United States District Court for the Northern District of Illinois, 219 S. Dearborn Street, Chicago, Illinois 60604. In addition, the proposed Consent Decree may be viewed at http://www.usdoj.gov/enrd/open.html.

Kurt N. Lindland,
Assistant United States Attorney.

[FR Doc. 04-1869 Filed 1-28-04; 8:45 am]

BILLING CODE 4410-15-M